DEPARTMENT OF COMMERCE

National Oceanic and Atmospheric Administration

Agency Information Collection Activities; Submission to the Office of Management and Budget (OMB) for Review and Approval; Comment Request; Highly Migratory Species (HMS) Scientific Research Permits, Exempted Fishing Permits, Letters of Acknowledgment, Display Permits, and Shark Research Fishery Permits

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 28, 2020, (85 FR 68306) during a 60-day comment period. This notice allows for an additional 30 days for public comments.

Agency: National Oceanic and Atmospheric Administration (NOAA), Commerce.

Title: Highly Migratory Species (HMS) Scientific Research Permits, Exempted Fishing Permits, Letters of Acknowledgement, Display Permits, and Shark Research Fishery Permits.

OMB Control Number: 0648-0471.

Form Number(s): None.

Type of Request: Regular submission [request for extension of a currently approved information collection].

Number of Respondents: 145.

Average Hours per Response: 2 hours for a scientific research plan; 40 minutes for an application for an EFP, display permit, SRP, LOA, or shark research fishery permit; 1 hour for an interim report; 40 minutes for an annual fishing report; 15 minutes for an application for an amendment; 5 minutes for notification of departure phone calls to NMFS Enforcement; 10 minutes for calls to request and observer; and 2 minutes for “no-catch” reports.

Burden Hours: 165.

Needs and Uses: Exempted fishing permits (EFPs), scientific research permits (SRPs), display permits, letters of acknowledgment (LOAs), and shark research fishery permits are issued under the authority of the Magnuson-Stevens Fishery Conservation and Management Act (Magnuson-Stevens Act) (16 U.S.C. 1801 et seq.) and/or the Atlantic Tunas Convention Act (ATCA) (16 U.S.C. 971 et seq.). Issuance of EFPs and related permits is necessary for the collection of Atlantic Highly Migratory Species (HMS) for public display and scientific research that requires exemption from regulations (e.g., seasons, prohibited species, authorized gear, minimum sizes) that otherwise may prohibit such collection. Display permits are issued for the collection of HMS for the purpose of public display, and a limited number of shark research fishery permits are issued for the collection of fishery-dependent data for future stock assessments and cooperative research with commercial fishermen to meet the shark research objectives of the Agency.

Regulations at 50 CFR 600.745 and 50 CFR 635.32 govern scientific research activity, exempted fishing, and exempted educational activities with respect to Atlantic HMS. Since the Magnuson-Stevens Act does not include scientific research within the definition of “fishing,” scientific research is exempt from this statute, and NMFS does not issue EFPs for bona fide research activities (e.g., research conducted from a research vessel and not a commercial or recreational fishing vessel) involving species that are only regulated under the Magnuson-Stevens Act (e.g., most species of sharks) and not under ATCA. NMFS requests copies of scientific research plans for these activities and indicates concurrence by issuing a LOA to researchers to indicate that the proposed activity meets the definition of scientific research and is therefore exempt from regulation.

Scientific research is not exempt from regulation under ATCA. NMFS issues SRPs for collection of species managed under this statute (i.e., tunas, swordfish, billfish, and some shark species), which authorize researchers to collect Atlantic HMS from bona fide research vessels (e.g., NMFS or university research vessel). NMFS will issue an EFP when research/collection involving such species occurs from commercial or recreational fishing platforms.

To regulate these fishing activities, NMFS needs information to determine the justification for granting an EFP, LOA, SRP, display, or shark research fishery permit. The application requirements are detailed at 50 CFR 600.745(b)(2). Interim, annual, and no-catch/fishing reports must also be submitted to the Atlantic HMS Management Division within NMFS. The authority for NMFS requiring this information is found at 50 CFR 635.32.

Affected Public: Businesses or other for-profit organizations (vessel owners or aquariums); Not-for-profit institutions (academic researchers); State, Local, or Tribal governments (state agency researchers); Federal government (federal agency researchers).

Frequency: Permit applications, scientific research plans, and annual reports are submitted annually; interim and no catch reports are submitted monthly; departure notifications are submitted for each trip; permit amendment applications are submitted as needed.

Respondent's Obligation: Mandatory.

Legal Authority: Magnuson-Stevens Fishery Conservation and Management Act (16 U.S.C. 1801 et seq.), and the Atlantic Tunas Convention Act of 1975 (16 U.S.C. 971 et seq.)

This information collection request may be viewed at reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0471.

Sheleen Dumas,
Department PRA Clearance Officer, Office of the Chief Information Officer, Commerce Department.

[FR Doc. 2021-03629 Filed 2-22-21; 8:45 am]

BILLING CODE 3510-22-P